DEPARTMENT OF HOMELAND SECURITY

Coast Guard

46 CFR Parts 401, 403, and 404

[USCG-2016-0268]

RIN 1625-AC34

Great Lakes Pilotage Rates—2017 Annual Review

Correction

In rule document 2017-18411 beginning on page 41466 in the issue of Thursday, August 31, 2017, make the following corrections:

1. On page 41466, in the first column, in the first line below Table E-1, remove the words SUPPLEMENTARY INFORMATION:.

2. On the same page, in the second column, after the second line, insert the words SUPPLEMENTARY INFORMATION: on their own line.

§ 401.405 [Corrected]

3. On page 41495, in the second column, in the 22nd line from the bottom, “Revise § 401.405 to read as follows:” should read “In § 401.405, revise paragraph (a) to read as follows:”.

§ 401.420 [Corrected]

4. On the same page, in the same column, in the eighth line from the bottom, “Revise § 401.420 to read as follows:” should read “In § 401.420, revise paragraph (b) to read as follows:”.

§ 401.450 [Corrected]

5. On the same page, in the third column, in the ninth through fourteenth lines,

5. Revise § 401.450 as follows:

a. Redesignate paragraphs (b) through (j) as paragraphs (c) through (k), respectively; and

b. Add new paragraph (b) to read as follows:

Should read:

5. In § 401.450, redesignate paragraphs (b) through (j) as paragraphs (c) through (k), respectively, and add new paragraph (b) to read as follows:

6. In part 401, in section 401.405, on the same page, in the same column, after the 20th line, add the following line:

* * * * *

§ 404.100 [Corrected]

7. On the same page, in the same column, in the 28th line, “Amend § 404.101(a) as follows:” should read “In § 404.100, revise paragraph (a) to read as follows:”.

8. In part 404, in section 404.100, on the same page, in the same column, after the 39th line, add the following line:

* * * * *

§ 404.103 [Corrected]

9. In the same page, in the same column, in the 41st through 46th lines,

a. In paragraph (a), following the words “dividing each area's” remove the word “peak” and add, in its place, the word “seasonal”; and

b. Revise paragraph (b) to read as follows:

should read:

a. In paragraph (a) introductory text, following the words “dividing each area's” remove the word “peak” and add in its place the word “seasonal”; and

b. Revise paragraph (b).

The revision reads as follows:

§ 404.105 [Corrected]

10. On page 41496, in the first column, in the 22nd and 23rd line, “and add, in their place, the words “working capital fund.” ” should read “and add in their place the words “working capital fund”.”.

[FR Doc. C1-2017-18411 Filed 9-19-17; 8:45 am]

BILLING CODE 13010-00-D